DEPARTMENT OF DEFENSE

Department of the Army; Corps of Engineers

Notice of Correction to the Notice of Intent To Prepare a Joint Environmental Impact Statement (EIS) for the Gateway Pacific Terminals Bulk Dry Goods Shipping Facility and the Custer Spur Rail Expansion Projects

AGENCY: Department of the Army, U.S. Army Corps of Engineers, DoD.

ACTION: Notice of Correction.

SUMMARY: This notice corrects the location and date of one of the public scoping meetings listed in the Notice of Intent published in the Federal Register (77 FR 58531) on Friday, September 21, 2012. The venue for the Seattle public scoping meeting previously scheduled for November 13, 2012 is no longer available. The Seattle public scoping meeting will be held at the Washington State Convention Center, Rooms 6A, 6B, 6C, and 6D, 800 Convention Place, Seattle, WA 98101 on Monday, December 17, 2012, from 4:00 p.m. to 7:00 p.m.

FOR FURTHER INFORMATION CONTACT: Mr. Randel Perry via email at: randel.j.perry@usace.army.mil, by phone at (360) 734-3156, or by regular mail at Mr. Randel Perry, U.S. Army Corps of Engineers, Seattle District, Care of: GPT/BNSF Custer Spur EIS Co-Lead Agencies, 1100 112th Avenue Northeast, Suite 400, Bellevue, WA 98004. Additional information on scoping meetings can be found at www.eisgatewaypacificwa.gov.

Brenda S. Bowen,
Army Federal Register Liaison Officer.

[FR Doc. 2012-28885 Filed 11-29-12; 8:45 am]

BILLING CODE 3720-58-P